DEPARTMENT OF ENERGY

Federal Energy Regulatory Commission

[Project No. 20-038]

PacifiCorp; Notice of Application for Temporary Amendment of License and Soliciting Comments, Motions To Intervene, and Protests

January 4, 2005.

Take notice that the following application has been filed with the Commission and is available for public inspection.

a. Type of Application: Request to temporarily amend the minimum flow requirements of article 408 of the project license.

b. Project Number: P-20-038.

c. Date Filed: December 12, 2004.

d. Applicant: PacifiCorp.

e. Name of Project: Bear River Hydroelectric Project (FERC No. 20).

f. Location: The project is located on the Bear River in Caribou and Franklin Counties, Idaho.

g. Filed Pursuant to: Federal Power Act, 16 U.S.C. 791(a) 825(r) and 799 and 801.

h. Applicant Contacts: Monte Garrett, 825 NE. Multnomah, Suite 1500, Portland, OR 97232. Phone: (503) 813-6629.

i. FERC Contact: Any questions on this notice should be addressed to Mr. Robert Fletcher at (202) 502-8901, or e-mail address: robert.fletcher@ferc.gov.

j. Deadline for filing comments and or motions: February 7, 2005.

k. Description of Request: The parties to the Bear River Settlement Agreement, which include PacifiCorp, U.S. Fish and Wildlife Service, U.S. Bureau of Land Management, National Park Service, U.S. Forest Service, Shoshone-Bannock Tribes, Idaho Department of Environmental Quality, Idaho Department of Fish and Game, Idaho Department of Parks and Recreation, Idaho Council of Trout Unlimited, Idaho Rivers United, Greater Yellowstone Coalition, and American Whitewater, propose to amend the Bear River Settlement Agreement to include the forthcoming Cove Agreement and license amendment application which the licensee will file with the Commission for approval to decommission the Cove project and amend article 408 of the project license to reduce the minimum instream flow requirement in the Grace bypassed reach from 80 cubic feet per second (cfs) to 65 cfs. Currently, the licensee, on behalf of the settlement parties, requests that a temporary amendment to article 408 be given upon the Commission's receipt of the amendment application (to be filed with the Commission by April 2005) that will allow the minimum flow requirement to be reduced from 80 cfs to 65 cfs during the time that the Commission is conducting its analysis to reach a decision on the amendment application. The temporary amendment will be necessary to permit the settlement parties to conduct aquatic habitat assessments, beginning in May 2005.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-20-038). All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-54 Filed 1-10-05; 8:45 am]

BILLING CODE 6717-01-P